DEPARTMENT OF AGRICULTURE

Office of the Chief Economist; Strategic Plan for USDA Climate Change Research, Education, and Extension

AGENCY: Office of the Chief Economist, U.S. Department of Agriculture.

ACTION: Request for Public Input on USDA's Climate Change Strategic Planning Priorities and Goals for Research, Education, and Extension.

SUMMARY: The U.S. Department of Agriculture (USDA) is a member of the United States Climate Change Science Program (CCSP) and has undertaken research on issues related to climate change and natural resources over the past two decades. USDA recently prepared a major scientific assessment of the effects of climate change on agriculture, land resources, water resources, and biodiversity in the United States for the CCSP. USDA is requesting input from the public on its effort to prepare a Strategic Plan for Climate Change Research, Education, and Extension. This request is being published in the Federal Register for a 45-day public comment period. Public comments will be considered during the preparation of the Strategic Plan. The final version of the Strategic Plan will be published on USDA's Web site.

Public comments received in response to this request will be made available upon request.

DATES: Comments must be received by September 19, 2008.

ADDRESSES: Comments should be sent to Eleanor Rollings, Special Assistant to the Under Secretary for Research, Education, and Extension, USDA, Jamie L. Whitten Building, 1400 Independence Avenue, SW., Washington, DC 20250, Eleanor.rollings@usda.gov, 202-720-1542.

FOR FURTHER INFORMATION CONTACT: Eleanor Rollings, Special Assistant to the Under Secretary for Research, Education, and Extension, USDA, Eleanor.rollings@usda.gov, 202-720-1542.

SUPPLEMENTARY INFORMATION: Draft goals of the USDA's Climate Change Strategic Plan for Research, Education, and Extension:

Goal 1: Understand the effects of climate change on natural and managed ecosystems.

USDA will promote an understanding of the impacts of climate change on ecosystems and managed lands, including forests, grazing lands and croplands, is needed to enable continued production of goods and services and stewardship of natural resources. Areas of emphasis include:

• Effects of changing precipitation, temperature and water availability on productivity and system services;

• Implications of enhanced atmospheric carbon dioxide concentrations on system productivity and services;

• Effects on invasive species, weeds, pathogens, insects and other factors limiting natural and managed systems productivity;

• Effects on natural disturbance regimes, including wildfires;

• Effects on production, processing, storage and delivery systems;

• Economic consequences of climate change on natural and managed ecosystems;

• Implications for water, soil and air systems needed for production and ecosystem sustainability;

• Indicators/metrics from earth observations for identifying, measuring and monitoring the effects of climate change;

• Measurement of changing carbon content of ecosystems, and of growth by species;

• Evaluation of social and economic indicators for impacts of climate change on production systems, rural communities, the agricultural workforce and other human dimensions;

• Incorporating climate change observations into USDA data systems.

Goal 2: Develop knowledge and tools to enable adaptation to climate change and improve the resilience of natural and managed ecosystems.

Mechanisms for adaptation to climate changes are critical for continued agricultural production and stewardship of natural resources. USDA activities under this goal will focus on the development of knowledge and technologies to address detrimental effects of climate change and to exploit elements of climate change that are potentially beneficial to agriculture and forestry. Risk management and adaptive management strategies are key elements of Goal 2. Elements of Goal 2 include:

• Sustainable practices for agricultural production in the context of climate change;

• Strategies to enable farmers and other landowners and managers to cope with challenges associated with drought, heat stress, moisture stress, and changes in disease and pest prevalence;

• Management actions to increase forest stress resilience focused on altering forest processes, composition and structure to better withstand the suite of environmental stresses from changing climate, pests, pollutants, and wildfire;

• Economic costs, benefits, and feasibility of adaptation at the producer through the macroeconomic scale;

• Estimation and measurement techniques and capabilities for assessing the effectiveness of adaptive practices;

• Strategies to enable farmers and other landowners to account for longer growing seasons, increases in carbon dioxide concentrations, and increases in precipitation where applicable;

• Management strategies for adapting to the effects of climate on forest health and ecosystem services;

• Knowledge and technology to enhance ecosystem adaptation and sustainability;

• Technologies for maintenance and enhancement of ecosystem services such as water supplies, wildlife, biodiversity, clean air, and recreation within the context of global change;

• Alternative strategies for increasing ecosystem resilience;

• Indicators/metrics for monitoring the progress of strategies for adapting to climate change;

• Life-cycle analysis and management strategy assessments.

Goal 3: Develop knowledge and tools to reduce the contributions of agriculture, forestry, and other land management practices to the build up of greenhouse gases in the atmosphere.

Agriculture, forests, and grazing lands activities can produce greenhouse gas (GHG) emissions to the atmosphere. Land uses can also reverse the buildup of greenhouse gases in the atmosphere by sequestering and storing carbon in biomass and soils. The dominant drivers of land use emissions of carbon are the conversion of forest and grassland to crop and pastureland and the depletion of soil carbon through agricultural and other land management practices. Practices such as livestock grazing, manure management, and fertilizer application also affect emissions of other GHGs such as methane (CH4) and nitrous oxide (N2O). USDA research will identify opportunities to apply resource conserving management practices to reverse past carbon losses and to reduce greenhouse gas emissions. Areas of focus under Goal 3 include:

• Knowledge and technologies that will assist resource managers in enhancing carbon sequestration;

• Management options that increase forest carbon sequestration by increasing the carbon stored in forests and soils, in forest products, and used as biofuels to replace fossil fuels.

• Costs, benefits, and feasibility of mitigation options;

• Technologies and strategies for managing agricultural and forestry emissions of GHGs, including CO2, N2O, and CH4;

• Mechanisms to facilitate the adoption and incorporation of GHG management technologies into agricultural and forestry production, processing, storage and delivery systems;

• Estimation and measurement capabilities for assessing the effectiveness of GHG emission management.

Goal 4: Deliver climate change science and technology to USDA agencies, stakeholders and collaborators for improved decision making. USDA maintains research, education, and extension capabilities which can be drawn on to meet the challenges of climate change. USDA seeks comments on how to best utilize resources to address questions relevant to stakeholders and decision makers at local, regional, national, and international scales. Goal 4 emphasizes the delivery and application of the latest scientific information, including:

• Education of USDA stakeholders, clients and customers including the general public, the scientific community, land managers, producers, and policy makers about climate change and agriculture and forestry;

• Scientific collaboration and technology transfer to integrate climate change into decision-making for management of natural and managed ecosystems using the products of research and development from the three previous goals;

• Distribution and dissemination of USDA climate change data, information, and technology to interested users;

• Decision support tools for policymakers, producers and land managers charged with implementing mechanisms for reducing GHG emissions and enhancing carbon sequestration, thereby increasing resilience of natural, agricultural, and forested ecosystems;

• Risk management paradigms to balance production, conservation and climate change, especially in light of uncertainty regarding the specifics of future climate and climate variability;

• Incorporation of GHG and carbon sequestration data into USDA data collection programs and data base systems.

Gerald A. Bange,
Chairman of the World Agricultural Outlook Board.

[FR Doc. E8-18112 Filed 8-5-08; 8:45 am]

BILLING CODE 3410-38-P